DEPARTMENT OF ENERGY

Federal Energy Regulatory Commission

Combined Notice of Filings # 1

May 6, 2010.

Take notice that the Commission received the following electric rate filings:

Docket Numbers: ER98-1643-015; ER98-1643-014.

Applicants: Portland General Electric Company.

Description: Portland General Electric Company submits updated market power study.

Filed Date: 04/23/2010.

Accession Number: 20100427-0013.

Comment Date: 5 p.m. Eastern Time on Tuesday, June 22, 2010.

Docket Numbers: ER98-1734-020; ER00-3251-023; ER01-1147-011; ER01-1919-017; ER99-2404-016; ER01-513-029.

Applicants: Commonwealth Edison Company; Exelon Generation Company; PECO Energy Company; Exelon Energy Company; Exelon New England Power Marketing, LP; Exelon Framingham, LLC; Exelon New Boston, LLC; Exelon West Medway, LLC; Exelon Wyman, LLC.

Description: Amended Quarterly Report of Exelon.

Filed Date: 04/30/2010.

Accession Number: 20100430-5291.

Comment Date: 5 p.m. Eastern Time on Friday, May 21, 2010.

Docket Numbers: ER05-1232-019; ER09-335-005; ER07-1117-010.

Applicants: J.P. Morgan Ventures Energy Corporation, BE KJ LLC.

Description: J.P. Morgan Ventures Energy Corporation and BE KJ LLC's Supplement to Updated Market Power Analysis and Order Nos. 697 and 697-A Compliance Filing.

Filed Date: 05/05/2010.

Accession Number: 20100505-5114.

Comment Date: 5 p.m. Eastern Time on Wednesday, May 26, 2010.

Docket Numbers: ER06-560-008.

Applicants: Credit Suisse Energy LLC.

Description: Revised Appendix B of Credit Suisse Energy LLC.

Filed Date: 05/05/2010.

Accession Number: 20100505-5113.

Comment Date: 5 p.m. Eastern Time on Wednesday, May 26, 2010.

Docket Numbers: ER08-1226-005; ER08-1225-007; ER08-1111-006.

Applicants: Cloud County Wind Farm, LLC, Pioneer Prairie Wind Farm I, LLC, Arlington Wind Power Project LLC.

Description: Supplement to Notice of Change in Status of Arlington Wind Power Project LLC, et. al.

Filed Date: 05/04/2010.

Accession Number: 20100504-5154.

Comment Date: 5 p.m. Eastern Time on Tuesday, May 25, 2010.

Docket Numbers: ER09-393-002.

Applicants: West Oaks Energy, LLC.

Description: West Oaks Energy, LLC submits Notice of Non-Material Change in Status in compliance with Commission's reporting requirements adopted in Order 652.

Filed Date: 05/04/2010.

Accession Number: 20100504-0218.

Comment Date: 5 p.m. Eastern Time on Tuesday, May 25, 2010.

Docket Numbers: ER10-622-001.

Applicants: Macquarie Energy LLC.

Description: Notice of Non-Material Change in Status of Macquarie Energy LLC.

Filed Date: 04/30/2010.

Accession Number: 20100430-5510.

Comment Date: 5 p.m. Eastern Time on Friday, May 21, 2010.

Docket Numbers: ER10-1077-001.

Applicants: Otay Mesa Energy Center, LLC.

Description: Otay Acquisition Company, LLC submits an amendment to its notice of succession to Otay Mesa Energy Center, LLC, which was filed 4/22/2010.

Filed Date: 04/27/2010.

Accession Number: 20100428-0202.

Comment Date: 5 p.m. Eastern Time on Tuesday, May 18, 2010.

Docket Numbers: ER10-1179-000.

Applicants: American Electric Power Service Corporation.

Description: Request of American Electric Power Service Corporation to Update Depreciation Expense Inputs in Formula Rate.

Filed Date: 05/03/2010.

Accession Number: 20100503-5155.

Comment Date: 5 p.m. Eastern Time on Monday, May 24, 2010.

Docket Numbers: ER10-1185-000.

Applicants: ISO New England Inc.

Description: ISO New England Inc submits redacted copies of informational filing of qualification in the Forward Capacity Market for the 2013-2014 Capacity Commitment Period.

Filed Date: 05/04/2010.

Accession Number: 20100505-0208.

Comment Date: 5 p.m. Eastern Time on Wednesday, May 19, 2010.

Docket Numbers: ER10-1186-000.

Applicants: DTE Energy Supply, LLC.

Description: DTE Energy Supply, LLC submits tariff filing per 35.12: DTE Energy Supply Baseline Filing to be effective 5/14/2010.

Filed Date: 05/05/2010.

Accession Number: 20100505-5014.

Comment Date: 5 p.m. Eastern Time on Wednesday, May 26, 2010.

Docket Numbers: ER10-1187-000.

Applicants: Woodland Biomass Power Ltd.

Description: Woodland Biomass Power Ltd. submits tariff filing per 35.12: Woodland Biomass Baseline Tariff to be effective 5/14/2010.

Filed Date: 05/05/2010.

Accession Number: 20100505-5015.

Comment Date: 5 p.m. Eastern Time on Wednesday, May 26, 2010.

Docket Numbers: ER10-1188-000.

Applicants: DTE Stoneman, LLC.

Description: DTE Stoneman, LLC submits tariff filing per 35.12: DTE Stoneman Baseline Filing, to be effective 5/14/2010.

Filed Date: 05/05/2010.

Accession Number: 20100505-5016.

Comment Date: 5 p.m. Eastern Time on Wednesday, May 26, 2010.

Docket Numbers: ER10-1189-000.

Applicants: PacifiCorp.

Description: PacifiCorp submits Small Generator Interconnection Agreement Facilities Maintenance Agreement dated 4/19/10 with Lakeview Cogeneration, LLC etc.

Filed Date: 05/05/2010.

Accession Number: 20100505-0103.

Comment Date: 5 p.m. Eastern Time on Wednesday, May 26, 2010.

Docket Numbers: ER10-1190-000.

Applicants: ISO New England Inc., New England Power Pool.

Description: ISO New England Inc submits revised tariff sheets that temporarily remove from the ISO Tariff provisions etc.

Filed Date: 05/05/2010.

Accession Number: 20100505-0216.

Comment Date: 5 p.m. Eastern Time on Wednesday, May 26, 2010.

Docket Numbers: ER10-1191-000.

Applicants: Southern California Edison Company.

Description: Southern California Edison Co submits a letter agreement with Calico Solar, LLC.

Filed Date: 05/05/2010.

Accession Number: 20100505-0214.

Comment Date: 5 p.m. Eastern Time on Wednesday, May 26, 2010.

Docket Numbers: ER10-1192-000.

Applicants: PJM Interconnection, LLC.

Description: PJM Interconnection, LLC submits five executed Wholesale Market Participation Agreements.

Filed Date: 05/05/2010.

Accession Number: 20100505-0215.

Comment Date: 5 p.m. Eastern Time on Wednesday, May 26, 2010.

Docket Numbers: ER10-1193-000.

Applicants: Consolidated Edison Company of New York,

Description: Consolidated Edison Company of New York, Inc submits Faculties Agreement by and between Con Edison and Central Hudson, dated as of 2/8/2010.

Filed Date: 05/05/2010.

Accession Number: 20100505-0217.

Comment Date: 5 p.m. Eastern Time on Wednesday, May 26, 2010.

Docket Numbers: ER10-1194-000.

Applicants: Midwest Independent Transmission System Operator, Inc.

Description: Midwest Independent Transmission System Operator submits a Generator Interconnection Agreement.

Filed Date: 05/05/2010.

Accession Number: 20100505-0219.

Comment Date: 5 p.m. Eastern Time on Wednesday, May 26, 2010.

Docket Numbers: ER10-1195-000.

Applicants: Sierra Pacific Power Company.

Description: NV Energy submits an executed Engineering and Procurement Agreement with Spring Valley Wind LLC.

Filed Date: 05/05/2010.

Accession Number: 20100506-0208.

Comment Date: 5 p.m. Eastern Time on Wednesday, May 26, 2010.

Docket Numbers: ER10-1196-000.

Applicants: PJM Interconnection, LLC, PJM Settlement, Inc.

Description: PJM Interconnection, LLC submits Eleventh Revised Sheet No. 1 et al and the Amended and Restated Operating Agreement.

Filed Date: 05/05/2010.

Accession Number: 20100506-0218.

Comment Date: 5 p.m. Eastern Time on Wednesday, May 26, 2010.

Docket Numbers: ER10-1197-000.

Applicants: Southern California Edison Company.

Description: Southern California Edison Company submits amended Interconnection Facilities Agreement between SCE and Dillon Wind, LLC, Second Revised Service Agreement 3 under SCE's Transmission Owner Tariff, etc.

Filed Date: 05/06/2010.

Accession Number: 20100506-0226.

Comment Date: 5 p.m. Eastern Time on Thursday, May 27, 2010.

Docket Numbers: ER10-1198-000.

Applicants: Southern California Edison Company.

Description: Southern California Edison Company submits revised rate sheets reflecting the cancellation of the agreement for Interconnectional and Cooperative Use of Certain Pacific Intertie Microwave Facilities etc.

Filed Date: 05/06/2010.

Accession Number: 20100506-0227.

Comment Date: 5 p.m. Eastern Time on Thursday, May 27, 2010.

Docket Numbers: ER10-1199-000.

Applicants: Southern California Edison Company.

Description: Southern California Edison Company submits letter agreement with Solar Millennium, LLC.

Filed Date: 05/06/2010.

Accession Number: 20100506-0228.

Comment Date: 5 p.m. Eastern Time on Thursday, May 27, 2010.

Docket Numbers: ER10-1200-000.

Applicants: Southern California Edison Company.

Description: Southern California Edison Company submits a revised rate sheet reflecting the cancellation of the Coordinated Operations Agreement with Pacific Gas and Electric Company.

Filed Date: 05/06/2010.

Accession Number: 20100506-0229.

Comment Date: 5 p.m. Eastern Time on Thursday, May 27, 2010.

Docket Numbers: ER10-1201-000.

Applicants: American Electric Power Service Corporation.

Description: American Electric Power Service Corporation submits a fully executed generation interconnection agreement dated 4/16/10 with IPA Coleto Creek, LLC et al.

Filed Date: 05/06/2010.

Accession Number: 20100506-0230.

Comment Date: 5 p.m. Eastern Time on Thursday, May 27, 2010.

Docket Numbers: ER10-1202-000.

Applicants: Jersey Central Power & Light.

Description: Jersey Central Power & Light submits tariff filing per 35.12: Market-Based Rate Power Sales Tariff to be effective 5/6/2010.

Filed Date: 05/06/2010.

Accession Number: 20100506-5096.

Comment Date: 5 p.m. Eastern Time on Thursday, May 27, 2010.

Take notice that the Commission received the following electric securities filings:

Docket Numbers: ES10-11-000.

Applicants: Southwest Power Pool Inc.

Description: Request to Modify January 15, 2010 Authorization Order of Southwest Power Pool, Inc.

Filed Date: 05/06/2010.

Accession Number: 20100506-5106.

Comment Date: 5 p.m. Eastern Time on Monday, May 17, 2010.

Docket Numbers: ES10-31-000.

Applicants: Midwest Independent Transmission System Operator, Inc.

Description: Amendment to Section 204 Application of Midwest Independent Transmission System Operator, Inc.

Filed Date: 05/06/2010.

Accession Number: 20100506-5098.

Comment Date: 5 p.m. Eastern Time on Monday, May 17, 2010.

Docket Numbers: ES10-41-000.

Applicants: National Grid USA.

Description: Application of National Grid USA on behalf of National Grid Generation LLC to Issue Securities.

Filed Date: 04/30/2010.

Accession Number: 20100430-5503.

Comment Date: 5 p.m. Eastern Time on Friday, May 21, 2010.

Take notice that the Commission received the following electric reliability filings:

Docket Numbers: RR08-4-000; RR08-4-001; RR08-4-002.

Applicants: North American Electric Reliability Corporation.

Description: North American Electric Reliability Corporation submits supplemental information regarding the March 5, 2010 Violation Severity Level Compliance Filing.

Filed Date: 05/05/2010.

Accession Number: 20100505-5112.

Comment Date: 5 p.m. Eastern Time on Thursday, May 20, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-11537 Filed 5-13-10; 8:45 am]

BILLING CODE P